AFRICAN DEVELOPMENT FOUNDATION

Board of Directors Executive Session Meeting

Meeting: African Development Foundation, Board of Directors Executive Session Meeting

Time: Tuesday, October 22, 2013 9:00 a.m. to 1:00 p.m.

Place: 1400 Eye Street NW., Suite 1000, Washington, DC 20005

Date: Tuesday, October 22, 2013

Status:

1. Open session, Tuesday, October 22, 2013, 9:00 a.m. to 12:00 p.m.

2. Closed session, Tuesday, October 22, 2013, 12:00 p.m. to 1:00 p.m.

Shari Berenbach,
President/CEO, USADF.

[FR Doc. 2013-24236 Filed 10-2-13; 8:45 am]

BILLING CODE 6117-01-P